DEPARTMENT OF THE INTERIOR

National Park Service

Notice of Intent to Repatriate a Cultural Item in the Possession of the Peabody Museum of Archaeology and Ethnology, Harvard University, Cambridge, MA

AGENCY: National Park Service, Interior.

ACTION: Notice.

Notice is hereby given under the Native American Graves Protection and Repatriation Act, 43 CFR 10.10 (a)(3), of the intent to repatriate a cultural item in the possession of the Peabody Museum of Archaeology and Ethnology, Harvard University, Cambridge, MA, that meets the definition of “unassociated funerary object” under Section 2 of the Act.

This notice is published as part of the National Park Service's administrative responsibilities under NAGPRA, 43 CFR 10.2 (c). The determinations within this notice are the sole responsibility of the museum, institution, or Federal agency that has control of this cultural item. The National Park Service is not responsible for the determinations within this notice.

The one cultural item is an iron hammer.

Prior to 1869, human remains and associated funerary objects were collected by Acting Assistant Surgeon G.P. Hachenberg, U.S. Army, from a grave near Fort Randall, SD. In 1869, Surgeon Hachenberg donated the human remains and associated funerary objects to the Army Medical Museum (now the National Museum of Health and Medicine), Washington, DC. In 1876, the iron hammer, one of the associated funerary objects, was transferred to the Peabody Museum of Archaeology and Ethnology from the Army Medical Museum. Army Medical Museum records indicate that the grave was that of an Oglala Sioux man and his mother.

The human remains and remaining associated funerary objects were transferred by the Army Medical Museum to the Smithsonian Institution. In 1998, these human remains were repatriated to the Oglala Sioux Tribe of the Pine Ridge Reservation, South Dakota, from the National Museum of Natural History.

Based on the 1998 repatriation, this cultural item is now considered an unassociated funerary object. Based on museum documentation and geographical evidence, this cultural item has been affiliated with the Oglala Sioux Tribe of the Pine Ridge Reservation, South Dakota.

Based on the above-mentioned information, officials of the Peabody Museum of Archaeology and Ethnology have determined that, pursuant to 43 CFR 10.2 (d)(2)(ii), this one cultural item is reasonably believed to have been placed with or near individual human remains at the time of death or later as part of the death rite or ceremony and is believed, by a preponderance of the evidence, to have been removed from a specific burial site of an Native American individual. Officials of the Peabody Museum of Archaeology and Ethnology also have determined that, pursuant to 43 CFR 10.2 (e), there is a relationship of shared group identity that can be reasonably traced between this cultural item and the Oglala Sioux Tribe of the Pine Ridge Reservation, South Dakota. This notice has been sent to officials of the Oglala Sioux Tribe of the Pine Ridge Reservation, South Dakota. Representatives of any other Indian tribe that believes itself to be culturally affiliated with this unassociated funerary object should contact Barbara Isaac, Repatriation Coordinator, Peabody Museum of Archaeology and Ethnology, 11 Divinity Avenue, Cambridge, MA 02138, telephone (617) 495-2254 before April 19, 2001. Repatriation of this unassociated funerary object to the Oglala Sioux Tribe of the Pine Ridge Reservation, South Dakota may begin after that date if no additional claimants come forward.

Dated: February 23, 2001.
John Robbins,
Assistant Director, Cultural Resources Stewardship and Partnerships.

[FR Doc. 01-6841 Filed 3-19-01; 8:45 am]

BILLING CODE 4310-70-F